DEPARTMENT OF COMMERCE

International Trade Administration

[C-580-869]

Large Residential Washers From the Republic of Korea: Rescission of Countervailing Duty Administrative Review; 2014

AGENCY: Enforcement and Compliance, International Trade Administration, Commerce.

SUMMARY: The Department of Commerce is rescinding the administrative review of the countervailing duty order on large residential washers (washers) from the Republic of Korea (Korea) covering the period January 1, 2014 through December 31, 2014.

DATES: Effective: July 21, 2015.

FOR FURTHER INFORMATION CONTACT: Jacqueline Arrowsmith, AD/CVD Operations Office VII, Enforcement and Compliance, International Trade Administration, U.S. Department of Commerce, 14th Street and Constitution Avenue NW., Washington, DC 20230; telephone (202) 482-5255.

SUPPLEMENTARY INFORMATION:

Background

On April 3, 2015, the Department published in the Federal Register a notice of initiation of an administrative review of the countervailing duty order on washers from Korea covering the period January 1, 2014 through December 31, 2014.¹ The review covers two companies: Daewoo Electronics Corporation (Daewoo) and Samsung Electronics Co., Ltd (Samsung). On May 29, 2015, Whirlpool Corporation (Petitioner) withdrew its request for a review of both Daewoo and Samsung.

¹ See Initiation of Antidumping and Countervailing Duty Administrative Reviews and Request for Revocation in Part, 80 FR 18202 (April 3, 2015) (Initiation). Samsung's name was misspelled in that notice and subsequently corrected in Initiation of Antidumping and Countervailing Duty Administrative Reviews, 80 FR 24233 (April 30, 2015).

Rescission of Review

Pursuant to 19 CFR 351.213(d)(1), the Secretary will rescind an administrative review, in whole or in part, if the parties that requested a review withdraw the request within 90 days of the date of publication of the notice of initiation of the requested review. The Department published the initiation on April 3, 2015.² Petitioner's withdrawal of its review request for both Daewoo and Samsung was submitted within the 90-day period following the publication of the Initiation and, thus, is timely.³ No other party requested an administrative review of this countervailing duty order. Therefore, in accordance with 19 CFR 351.213(d)(1), we are rescinding this review of the countervailing duty order on washers from Korea.

² See Initiation.

³ See Petitioner's May 29, 2015 letter.

Assessment

The Department will instruct U.S. Customs and Border Patrol (CBP) to assess countervailing duties on all appropriate entries. Because the Department is rescinding this review in its entirety, the entries to which this administrative review pertained shall be assessed countervailing duties at rates equal to the cash deposit of estimated countervailing duties required at the time of entry, or withdrawal from warehouse, for consumption, in accordance with 19 CFR 351.212(c)(1)(i). The Department intends to issue appropriate assessment instructions to CBP 15 days after the publication of this notice.

Notifications

This notice serves as a final reminder to parties subject to administrative protective order (APO) of their responsibility concerning the return or destruction of proprietary information disclosed under APO in accordance with 19 CFR 351.305, which continues to govern business proprietary information in this segment of the proceeding. Timely written notification of the return or destruction of the APO materials, or conversion to judicial protective order is hereby requested. Failure to comply with regulations and terms of an APO is a violation, which is subject to sanction.

This notice is issued and published in accordance with sections 751(a)(1) and 777(i)(l) of the Tariff Act of 1930, as amended, and 19 CFR 351.213(d)(4).

Dated: July 10, 2015.
Christian Marsh,
Deputy Assistant Secretary for Antidumping and Countervailing Duty Operations.

[FR Doc. 2015-17846 Filed 7-20-15; 8:45 am]

BILLING CODE 3510-DS-P